DEPARTMENT OF COMMERCE

International Trade Administration

[A-570-958]

Certain Coated Paper Suitable for High-Quality Print Graphics Using Sheet-Fed Presses From the People's Republic of China: Amended Final Determination of Sales at Less Than Fair Value and Antidumping Order

AGENCY: Import Administration, International Trade Administration, Department of Commerce.

DATES: Effective Date: November 17, 2010.

SUMMARY: Based on affirmative final determinations by the Department of Commerce (“Department”) and the International Trade Commission (“ITC”), the Department is issuing an antidumping duty order on certain coated paper suitable for high-quality print graphics using sheet-fed presses (“coated paper”) from the People's Republic of China (“PRC”). On November 10, 2010, the ITC notified the Department of its affirmative determination of threat of material injury to a U.S. industry. See Certain Coated Paper Suitable for High-Quality Print Graphics Using Sheet-Fed Presses from China (Investigation No. 731-TA-1159 (Final), USITC Publication 4192 (November 2010). In addition, the Department is amending its final determination as a result of ministerial errors.

FOR FURTHER INFORMATION CONTACT: Demitri Kalogeropoulos or Lindsey Novom, AD/CVD Operations, Office 8, Import Administration, International Trade Administration, U.S. Department of Commerce, 14th Street and Constitution Avenue, NW., Washington, DC 20230; telephone: (202) 482-2623 or (202) 482-5256, respectively.

SUPPLEMENTARY INFORMATION: In accordance with sections 735(d) and 777(i)(1) of the Tariff Act of 1930, as amended (“Act”), the Department published the final determination of sales at less than fair value in the antidumping investigation of coated paper from the PRC. See Certain Coated Paper Suitable for High-Quality Print Graphics Using Sheet-Fed Presses from the People's Republic of China: Final Determination of Sales at Less Than Fair Value, 75 FR 59217 (September 27, 2010) (“Final Determination”).

Amendment to the Final Determination

On September 27, 2010, the Department published its affirmative final determination in this proceeding. See Final Determination. On September 28, 2010, Gold East Paper (Jiangsu) Co., Ltd. (“GE”), Gold Huasheng Paper Co., Ltd. (“GHS”), Gold East (Hong Kong) Trading Co., Ltd. (“GEHK”), Ningbo Zhonghua Paper Co., Ltd. (“NBZH”), Ningbo Asia Pulp and Paper Co., Ltd. (“NAPP”), collectively referred to as the “GE Group,” or “APP-China,” a mandatory respondent, and Petitioners ¹ submitted ministerial error allegations and requested, pursuant to 19 CFR 351.224, that the Department correct the alleged ministerial errors in the calculation of APP-China's dumping margin. Petitioners submitted rebuttal comments on October 1, 2010. No other interested party submitted ministerial error allegations or rebuttal comments.

¹ APP-China and Appleton Coated LLC, NewPage Corporation, S.D. Warren Company d/b/a Sappi Fine Paper North America, and United Steel, Paper and Forestry, Rubber, Manufacturing, Energy, Allied Industrial and Service Workers International Union are the petitioners (collectively “Petitioners”) in this investigation.

After analyzing all interested party comments and rebuttals, we have determined, in accordance with section 735(e) of the Act and 19 CFR 351.224(e), that we made ministerial errors in our calculations for the Final Determination with respect to APP-China. For a detailed discussion of these ministerial errors, as well as the Department's analysis of the errors and allegations, see the Memorandum to the File, “Ministerial Error Memorandum, Certain Coated Paper Suitable for High-Quality Print Graphics Using Sheet-Fed Presses from the People's Republic of China, Final Determination of Sales at Less Than Fair Value,” dated October 27, 2010 (“Ministerial Error Memo”).

Additionally, in the Final Determination, we determined that Shandong Chenming Paper Holdings Ltd. qualified for a separate rate. See Final Determination. Because the cash deposit rate for Shandong Chenming Paper Holdings Ltd. was based on the calculated rate of the mandatory respondent, APP-China, and the margin for APP-China has changed since the Final Determination, the separate rate has changed as well. See Ministerial Error Memo. In addition, one of the ministerial errors affected the calculation of the labor rate, which was used in the calculation of the PRC-wide rate. Therefore, the PRC-wide rate has also changed since the Final Determination. See Ministerial Error Memo. The amended weighted-average dumping margins are as follows:

Exporter | Producer | Final percent margin | Amended final percent margin
Gold East Paper (Jiangsu) Co., Ltd | Gold East Paper (Jiangsu) Co., Ltd.; |  |
Gold Huasheng Paper Co., Ltd | Gold Huasheng Paper Co., Ltd.; | 7.60 | 7.62
Ningbo Zhonghua Paper Co., Ltd | Ningbo Zhonghua Paper Co., Ltd.; |  |
Ningbo Asia Pulp and Paper Co., Ltd | Ningbo Asia Pulp and Paper Co., Ltd.; |  |
Gold East (Hong Kong) Trading Co., Ltd |  |  |
Shandong Chenming Paper Holdings Ltd | Shandong Chenming Paper Holdings Ltd. | 7.60 | 7.62
PRC-Wide Entity * |  | 135.83 | 135.84
* The PRC-Wide Entity includes Shandong Sun Paper Industry Joint Stock Co., Ltd., Yanzhou Tianzhang Paper Industry Co., Ltd., Shandong International Paper and Sun Coated Paperboard Co., Ltd., International Paper and Sun Cartonboard Co., Ltd. (collectively “Sun Paper Companies”).

Antidumping Duty Order

On November 10, 2010, in accordance with section 735(d) of the Act, the ITC notified the Department of its final determination in this investigation. In its determination, the ITC found a threat of material injury. According to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since the Department's preliminary determination. In addition, section 736(b)(2) of the Act requires U.S. Customs and Border Protection (“CBP”) to refund any cash deposits or bonds of estimated antidumping duties posted since the preliminary antidumping determination if the ITC's final determination is threat-based. Therefore, in accordance with section 733(d) of the Act and our practice, we will instruct CBP to terminate the suspension of liquidation and to liquidate, without regard to antidumping duties, unliquidated entries of coated paper from the PRC entered, or withdrawn from warehouse, for consumption on or after May 6, 2010,² and before the date of publication of the ITC's final determination in the Federal Register. Suspension of liquidation will continue starting the date of publication of the ITC's final determination in the Federal Register. See the Continuation of Suspension of Liquidation section below.

² See Certain Coated Paper Suitable for High-Quality Print Graphics Using Sheet-Fed Presses From the People's Republic of China: Notice of Preliminary Determination of Sales at Less Than Fair Value and Postponement of Final Determination, 75 FR 24892 (May 6, 2010).

Scope of the Order

The merchandise covered by this order includes certain coated paper and paperboard ³ in sheets suitable for high quality print graphics using sheet-fed presses; coated on one or both sides with kaolin (china or other clay), calcium carbonate, titanium dioxide, and/or other inorganic substances; with or without a binder; having a GE brightness level of 80 or higher; ⁴ weighing not more than 340 grams per square meter; whether gloss grade, satin grade, matte grade, dull grade, or any other grade of finish; whether or not surface-colored, surface-decorated, printed (except as described below), embossed, or perforated; and irrespective of dimensions (“Certain Coated Paper”).

³ “ `Paperboard' refers to Certain Coated Paper that is heavier, thicker and more rigid than coated paper which otherwise meets the product description. In the context of Certain Coated Paper, paperboard typically is referred to as `cover,' to distinguish it from `text.' ”

⁴ One of the key measurements of any grade of paper is brightness. Generally speaking, the brighter the paper the better the contrast between the paper and the ink. Brightness is measured using a GE Reflectance Scale, which measures the reflection of light off of a grade of paper. One is the lowest reflection, or what would be given to a totally black grade, and 100 is the brightest measured grade.

Certain Coated Paper includes (a) coated free sheet paper and paperboard that meets this scope definition; (b) coated groundwood paper and paperboard produced from bleached chemi-thermo-mechanical pulp (“BCTMP”) that meets this scope definition; and (c) any other coated paper and paperboard that meets this scope definition.

Certain Coated Paper is typically (but not exclusively) used for printing multi-colored graphics for catalogues, books, magazines, envelopes, labels and wraps, greeting cards, and other commercial printing applications requiring high quality print graphics.

Specifically excluded from the scope are imports of paper and paperboard printed with final content printed text or graphics.

As of 2009, imports of the subject merchandise are provided for under the following categories of the Harmonized Tariff Schedule of the United States (“HTSUS”): 4810.14.11, 4810.14.1900, 4810.14.2010, 4810.14.2090, 4810.14.5000, 4810.14.6000, 4810.14.70, 4810.19.1100, 4810.19.1900, 4810.19.2010, 4810.19.2090, 4810.22.1000, 4810.22.50, 4810.22.6000, 4810.22.70, 4810.29.1000, 4810.29.5000, 4810.29.6000, 4810.29.70, 4810.32, 4810.39 and 4810.92. While HTSUS subheadings are provided for convenience and customs purposes, the written description of the scope of the investigations is dispositive.

Continuation of Suspension of Liquidation

In accordance with section 735(c)(1)(B) of the Act, we will instruct CBP to suspend liquidation on all entries of subject merchandise from the PRC effective the date of publication of the ITC final determination in the Federal Register. We will also instruct CBP to require cash deposits equal to the estimated amount by which the normal value exceeds the U.S. price as indicated in the chart above. These instructions suspending liquidation will remain in effect until further notice.

Accordingly, effective on the date of publication of the ITC's final affirmative determination, CBP will require, at the same time as importers would normally deposit estimated duties on this subject merchandise, a cash deposit equal to the estimated weighted-average antidumping duty margins as discussed above. See section 736(a)(3) of the Act. The PRC-wide rate applies to all exporters of subject merchandise not specifically listed.

In accordance with section 736 of the Act, the Department will also direct CBP to assess antidumping duties on all unliquidated entries of coated paper from the PRC entered, or withdrawn from warehouse, for consumption on or after the date on which the ITC published its notice of final determination of threat of material injury in the Federal Register.

This notice constitutes the antidumping duty order with respect to coated paper from the PRC pursuant to section 736(a) of the Act. Interested parties may contact the Department's Central Records Unit, Room 7046 of the main Commerce building, for copies of an updated list of antidumping duty orders currently in effect.

This order is published in accordance with section 736(a) of the Act and 19 CFR 351.211.

Dated: November 12, 2010.
Carole A. Showers,
Acting Deputy Assistant Secretary for Import Administration.

[FR Doc. 2010-29121 Filed 11-16-10; 8:45 am]

BILLING CODE 3510-DS-P